OVERSEAS PRIVATE INVESTMENT CORPORATION

Sunshine Act Meeting Notice

TIME AND DATE: Thursday, December 8, 2016, 2 p.m. (OPEN Portion); 2:15 p.m. (CLOSED Portion).

PLACE: Offices of the Corporation, Twelfth Floor Board Room, 1100 New York Avenue NW., Washington, DC.

STATUS: Meeting OPEN to the Public from 2 p.m. to 2:15 p.m. Closed portion will commence at 2:15 p.m. (approx.).

MATTERS TO BE CONSIDERED:

1. President's Report

2. Minutes of the Open Session of the September 15, 2016 Board of Directors Meeting

FURTHER MATTERS TO BE CONSIDERED (Closed to the Public 2:15 p.m.):

1. Insurance Project—Jordan

2. Insurance Project—Israel

3. Finance Project—Africa, South Asia

4. Finance Project—Africa

5. Minutes of the Closed Session of the September 15, 2016 Board of Directors Meeting

6. Reports

7. Pending Projects

CONTACT PERSON FOR MORE INFORMATION: Information on the meeting may be obtained from Catherine F. I. Andrade at (202) 336-8768, or via email at Catherine.Andrade@opic.gov.

Dated: November 9, 2016.
Catherine F. I. Andrade,
Corporate Secretary, Overseas Private Investment Corporation.

[FR Doc. 2016-27439 Filed 11-9-16; 4:15 pm]

BILLING CODE 3210-01-P